DEPARTMENT OF STATE

[Public Notice 6404]

International Narcotics and Law Enforcement Affairs Personnel Records System

SUMMARY: Notice is hereby given that the Department of State proposes to create a new system of records, the International Narcotics and Law Enforcement Affairs Personnel Records System, which is currently in operation, pursuant to the provision of the Privacy Act of 1974 as amended (5 U.S.C. 552a) and Office of Management and Budget Circular No. A-130, Appendix I. The Department's report was filed with the Office of Management and Budget on October 8, 2008.

It is proposed that the new system be named “International Narcotics and Law Enforcement Affairs Personnel Records System.” The new system description will specify that International Narcotics and Law Enforcement Affairs Personnel Records System maintains records primarily on contracted personnel serving in criminal justice roles for the purposes of documenting individuals' experience and skills relevant to International Narcotic Law Enforcement Affairs' funded programs; ensuring foreign policy sensitivity and maintenance of the public trust, personnel safety and accountability; providing aggregate statistical data for program management purposes; providing information related to employment suitability for service in high-risk environments, including authority to carry weapons; and capturing and validating flight mission data.

The proposed routine uses provide for disclosure to private employers when necessary for contract administration and to Federal agencies and international organizations, upon their request, for the purpose of verifying information relating to employment eligibility. These proposed routine uses are compatible with the purpose of collecting information for the International Narcotics Law Enforcement Affairs Personnel Records System, as they facilitate the selection of suitable individuals to serve as contract personnel in operations organized and funded by the Department of State, or as contract personnel for other federal agencies or international organizations operating in high-risk environments where the selection of suitable individuals is essential for maintaining public trust, personnel safety and accountability.

Any persons interested in commenting on the new International Narcotics and Law Enforcement Affairs Personnel Records system of records may do so by submitting comments in writing to Margaret P. Grafeld, Director, Office of Information Programs and Service, A/ISS/IPS, SA-2, 515 22nd Street NW., Department of State, Washington, DC 20522-8001. The new system of records for the International Narcotics and Law Enforcement Affairs Personnel Records System will remain effective, unless comments are received 40 days from the date of publication that result in a contrary determination.

This new system description will read as set forth below.

Dated: October 8, 2008.
Raj Chellaraj,
Assistant Secretary for the Bureau of Administration, Department of State.

State-74

System name:

International Narcotics and Law Enforcement Affairs (INL) Personnel Records (INLPR).

Security classification:

Sensitive but Unclassified.

System locations:

2201 C Street, NW., Washington, DC 20520; 2765 Business Center Blvd., Melbourne, FL 32940; Navy Hill, SA-4, 2430 E Street, NW., Washington, DC 20037; 1800 G Street, NW., SA-22, Washington, DC 20006.

Categories of individuals covered by the system:

Current or previous contractors and Federal employees affiliated with Bureau of International Narcotics and Law Enforcement Affairs.

Authority for maintenance of the system:

The Foreign Assistance Act of 1961 as amended, in particular Chapter 8, Part I, section 481 et seq., codified at 22 U.S.C. 2291 and 2292; State Department Basic Authorities Act of 1980, as amended, section 36(b), codified at 22 U.S.C. 2708; Section 103(c) of the Omnibus Diplomatic Security and Antiterrorism Act of 1986 (Public Law 99-399), as amended, codified at 22 U.S.C. 4802; Section 207 of the Foreign Service Act of 1980, codified at 22 U.S.C. 3927; National Security Decision Directive-38; National Security Presidential Directive-44 (Management of Interagency Efforts Concerning Reconstruction and Stabilization); other authorities, as appropriate.

Categories of records in the system:

Records include biographical information (full name, date of birth, home zip code, and email address), employee or contractor identification number, job location, employment history, experience, reports of significant/serious incidents, skills, training, and related information.

Purpose:

The INLPR system maintains records primarily on contracted personnel serving in criminal justice roles for the purposes of: Documenting individuals' experience and skills relevant to INL-funded programs; ensuring maintenance of the public trust, personnel safety, and accountability; providing aggregate statistical data for program management purposes; providing information related to employment suitability for service in high-risk environments, including authority to carry weapons; and capturing and validating flight mission data.

Routine uses of records maintained in the system, including categories of users and purposes of such uses:

Records may be disclosed to private employers when necessary for contract administration in connection with the purposes above, and to Federal and State agencies and international organizations, upon their request, for the purpose of providing information relating to employment eligibility. See also the standard routine uses listed in the Department of State Prefatory Statement, published in the Federal Register.

Policies and practices for storing, retrieving, accessing, retaining and disposing of records in the system:

Storage:

Electronic and paper.

Retrievability:

Records may be retrieved by individual name, employee identification number, contractor identification number, or date of birth.

Safeguards:

All users are given information system security awareness training, including the procedures for handling Sensitive but Unclassified and personally identifiable information. Annual refresher training is mandatory. Before being granted access to INLPR, a user must first be granted access to Department of State computer systems.

Remote access to Department of State network from non-Department owned systems is only authorized through Department approved access program. Remote access to the network is configured with the Office of Management and Budget Memorandum M-07-16 security requirements of two factor authentication and time out function.

All Department of State employees and contractors with authorized access have undergone a thorough background security investigation. Access to the Department of State and its facilities is controlled by security guards, and admission is limited to those individuals possessing a valid identification card or under proper escort. All paper records containing personal information are maintained in secured filing cabinets or in restricted areas, access to which is limited to authorized personnel. Access to electronic files is password-protected and under the direct supervision of the information owner. The INLPR structures access privileges to reflect the separation of key duties that end-users perform within the functions the application supports. Access privileges are consistent with the need-to-know, separation of duties, and supervisory requirements established for manual processes.

When it is determined that a user no longer needs access, the user account is disabled.

Retention and disposal:

These records are maintained until they become inactive, at which time they are destroyed or retired in accordance with published record disposition schedules of the Department of State and as approved by the National Archives and Records Administration. More specific information may be obtained by writing to the Director, Office of Information Programs and Services, A/ISS/IPS, SA-2, Department of State, 515 22nd Street, NW., Washington DC 20522-8001.

System manager and address:

Principal Deputy Assistant Secretary, Bureau of International Narcotics and Law Enforcement Affairs, 2201 C Street, NW., Washington, DC 20520.

Notification procedures:

Individuals who have reason to believe that the INLPR system might have records pertaining to them should write to the Director, Office of Information Programs and Services, A/ISS/IPS, SA-2, Department of State, 515 22nd Street, NW., Washington, DC 20522-8001. The individual must specify that he or she wishes the records of the INLPR system to be checked. At a minimum, the individual must include: Name, date and place of birth, current mailing address and zip code, and signature.

Record access and amendment procedures:

Individuals who wish to gain access to or amend records pertaining to themselves should write to the Director, Office of Information Programs and Services, A/ISS/IPS, SA-2, Department of State, 515 22nd Street, NW., Washington, DC 20522-8001.

Record source categories:

These records contain information that is obtained directly from the individual, international organizations, prior employers, current employers, and/or law enforcement agencies.

System exempted from certain provisions of the Privacy Act:

None.

[FR Doc. E8-24723 Filed 10-16-08; 8:45 am]

BILLING CODE 4710-24-P